DEPARTMENT OF ENERGY

Federal Energy Regulatory Commission

Combined Notice of Filings #1

Take notice that the Commission received the following electric rate filings:

Docket Numbers: ER97-4281-024, ER99-2161-012, ER99-3000-011, ER00-2810-010, ER99-4359-009, ER99-4358-009, ER99-2168-012, ER09-1300-003, ER10-1291-002, ER09-1301-003, ER99-2162-012, ER00-2807-010, ER00-2809-010, ER99-4355-009, ER99-4356-009, ER00-3160-015, ER99-4357-009, ER00-3160-016, ER00-2313-011, ER02-2032-009, ER02-1396-009, ER02-1412-009, ER99-3637-010, ER99-1712-012, ER00-2808-011.

Applicants: Norwalk Power LLC, NRG Power Marketing LLC, Connecticut Jet Power LLC, Montville Power LLC, Middletown Power LLC, Somerset Power LLC, NRG Energy Center Dover LLC, Arthur Kill Power LLC, Dunkirk Power LLC, Huntley Power LLC, Conemaugh Power LLC, Indian River Power LLC, Keystone Power LLC, NRG Energy Center Paxton LLC, NRG Rockford LLC, NRG Rockford II LLC, Vienna Power LLC, Devon Power LLC, GenConn Middletown LLC, GenConn Devon LLC, GenConn Energy LLC, NRG New Jersey Energy Sales LLC, Oswego Harbor Power LLC, Astoria Gas Turbines Power LLC, NEO Freehold-Gen LLC.

Description: Supplement to Updated Market Power Analysis of NRG Northeast MBR Entities.

Filed Date: 10/06/2011.

Accession Number: 20111006-5148.

Comment Date: 5 p.m. Eastern Time on Friday, October 21, 2011.

Docket Numbers: ER12-57-000.

Applicants: Southwestern Electric Power Company.

Description: Southwestern Electric Power Company submits tariff filing per 35.13(a)(2)(iii: 20111011 ETEC Revised PSA to be effective 12/17/2010.

Filed Date: 10/11/2011.

Accession Number: 20111011-5197.

Comment Date: 5 p.m. Eastern Time on Tuesday, November 01, 2011.

Docket Numbers: ER12-58-000.

Applicants: Southwestern Electric Power Company.

Description: Southwestern Electric Power Company submits tariff filing per 35.13(a)(2)(iii: 20111011 TexLa Revised PSA to be effective 12/17/2010.

Filed Date: 10/11/2011.

Accession Number: 20111011-5229.

Comment Date: 5 p.m. Eastern Time on Tuesday, November 01, 2011.

Docket Numbers: ER12-59-000.

Applicants: City of Banning, California.

Description: City of Banning, California submits tariff filing per 35.13(a)(2)(iii: Offer of Settlement Under Docket ER11-3962 to be effective 7/1/2011.

Filed Date: 10/11/2011.

Accession Number: 20111011-5248.

Comment Date: 5 p.m. Eastern Time on Tuesday, November 01, 2011.

Docket Numbers: ER12-60-000.

Applicants: Tenaska Power Management, LLC.

Description: Tenaska Power Management, LLC submits tariff filing per 35.12: Application for Market-Based Rate Authorization to be effective 10/12/2011.

Filed Date: 10/11/2011.

Accession Number: 20111011-5250.

Comment Date: 5 p.m. Eastern Time on Tuesday, November 01, 2011.

Docket Numbers: ER12-61-000.

Applicants: PJM Interconnection, L.L.C.

Description: PJM Interconnection, L.L.C. submits tariff filing per 35.13(a)(2)(iii: PJM Queue No. M24; Original Service Agreement Nos. 3086 and 3087 to be effective 9/8/2011.

Filed Date: 10/11/2011.

Accession Number: 20111011-5251.

Comment Date: 5 p.m. Eastern Time on Tuesday, November 01, 2011.

Docket Numbers: ER12-62-000.

Applicants: PJM Interconnection, L.L.C.

Description: PJM Interconnection, L.L.C. submits tariff filing per 35.13(a)(2)(iii: Revisions to the PJM Tariff Schedule 12A to be effective 12/11/2011.

Filed Date: 10/11/2011.

Accession Number: 20111011-5260.

Comment Date: 5 p.m. Eastern Time on Tuesday, November 01, 2011.

Docket Numbers: ER12-63-000.

Applicants: National Grid Generation LLC.

Description: National Grid Generation LLC submits tariff filing per 35.13(a)(2)(iii: National Grid Generation RS 1 Filing to be effective 12/31/9998.

Filed Date: 10/11/2011.

Accession Number: 20111011-5261.

Comment Date: 5 p.m. Eastern Time on Tuesday, November 01, 2011.

The filings are accessible in the Commission's eLibrary system by clicking on the links or querying the docket number.

Any person desiring to intervene or protest in any of the above proceedings must file in accordance with Rules 211 and 214 of the Commission's Regulations (18 CFR 385.211 and § 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2011.
Nathaniel J. Davis, Sr.,
Deputy Secretary.

[FR Doc. 2011-27000 Filed 10-18-11; 8:45 am]

BILLING CODE 6717-01-P